DEPARTMENT OF VETERANS AFFAIRS

[OMB Control No. 2900-0469]

Agency Information Collection Activity Under OMB Review: Certificate Showing Residence and Heirs of Deceased Veterans or Beneficiary

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0469.

FOR FURTHER INFORMATION CONTACT: Maribel Aponte, Office of Enterprise and Integration, Data Governance Analytics (008), 1717 H Street NW, Washington, DC 20006, (202) 266-4688 or email maribel.aponte@va.gov. Please refer to “OMB Control No. 2900-0469” in any correspondence.

SUPPLEMENTARY INFORMATION: Authority: 44 U.S.C. 3501-21.

Title: Certificate Showing Residence and Heirs of Deceased Veterans of Beneficiary VA Form 29-541.

OMB Control Number: 2900-0469.

Type of Review: Revision of a currently approved collection.

Abstract: The form is used by the Department of Veterans Affairs (VA) to establish entitlement to Government Life Insurance proceeds in estate cases when formal administration of the estate is not required. The information on the form is required by law, Title 38, U.S.C. 1817 and 1950. This form expired due to high volume of work and staffing changes.

An agency may not conduct or sponsor, and a person is not required to respond to a collection of information unless it displays a currently valid OMB control number. The Federal Register Notice with a 60-day comment period soliciting comments on this collection of information was published at 86 FR 26604 on May 14, 2021, pages 26604 and 26605.

Affected Public: Individuals or Households.

Estimated Annual Burden: 1,039.

Estimated Average Burden per Respondent: 30 minutes.

Frequency of Response: On occasion.

Estimated Number of Respondents: 2,078.

By direction of the Secretary.
Maribel Aponte,
VA PRA Clearance Officer, Office of Enterprise and Integration, Data Governance Analytics, Department of Veterans Affairs.

[FR Doc. 2021-15130 Filed 7-15-21; 8:45 am]

BILLING CODE 8320-01-P